DEPARTMENT OF ENERGY

Federal Energy Regulatory Commission

Combined Notice of Filings #1

Take notice that the Commission received the following electric corporate filings:

Docket Numbers: EC15-205-000.

Applicants: Bishop Hill Energy LLC, California Ridge Wind Energy LLC, Prairie Breeze Wind Energy LLC.

Description: Supplement to September 11, 2015 Application for Authorization under Section 203 of the Federal Power Act of Bishop Hill Energy LLC, et al.

Filed Date: 10/9/15.

Accession Number: 20151009-5337.

Comments Due: 5 p.m. ET 10/19/15.

Take notice that the Commission received the following electric rate filings:

Docket Numbers: ER15-1809-001.

Applicants: ATX Southwest, LLC.

Description: Compliance filing with Pro Forma Service Agreement of ATX Southwest, LLC.

Filed Date: 10/9/15.

Accession Number: 20151009-5339.

Comments Due: 5 p.m. ET 10/30/15.

Docket Numbers: ER15-2620-000.

Applicants: Little Elk Wind Project, LLC.

Description: Baseline eTariff Filing: Little Elk Wind Project, LLC MBR Tariff to be effective 10/1/2015.

Filed Date: 9/4/15.

Accession Number: 20150904-5331.

Comments Due: 5 p.m. ET 10/27/15.

Docket Numbers: ER15-2620-000.

Applicants: Little Elk Wind Project, LLC.

Description: Supplement to September 4, 2015 Little Elk Wind Project, LLC tariff filing.

Filed Date: 10/9/15.

Accession Number: 20151009-5331.

Comments Due: 5 p.m. ET 10/27/15.

Take notice that the Commission received the following electric securities filings:

Docket Numbers: ES15-40-000.

Applicants: Jersey Central Power & Light Company.

Description: Amendment to July 31, 2015 Application of Jersey Central Power & Light Company for Authorization under Section 204(a) of the Federal Power Act to Issue Short-Term Debt Securities.

Filed Date: 10/9/15.

Accession Number: 20151009-5295.

Comments Due: 5 p.m. ET 10/30/15.

Docket Numbers: ES15-42-000.

Applicants: Pennsylvania Power Company.

Description: Amendment to July 31, 2015 Application of Pennsylvania Power Company for Authorization under Section 204(a) of the Federal Power Act to Issue Short-Term Debt Securities.

Filed Date: 10/9/15.

Accession Number: 20151009-5294.

Comments Due: 5 p.m. ET 10/30/15.

Docket Numbers: ES15-43-000.

Applicants: Pennsylvania Electric Company.

Description: Amendment to July 31, 2015 Application of Pennsylvania Electric Company for Authorization under Section 204(a) of the Federal Power Act to Issue Short-Term Debt Securities.

Filed Date: 10/9/15.

Accession Number: 20151009-5293.

Comments Due: 5 p.m. ET 10/30/15.

Docket Numbers: ES15-44-000.

Applicants: Metropolitan Edison Company.

Description: Amendment to July 31, 2015 Application of Metropolitan Edison Company for Authorization under Section 204(a) of the Federal Power Act to Issue Short-Term Debt Securities.

Filed Date: 10/9/15.

Accession Number: 20151009-5292.

Comments Due: 5 p.m. ET 10/30/15.

Docket Numbers: ES15-45-000.

Applicants: West Penn Power Company.

Description: Amendment to July 31, 2015 Application of West Penn Power Company for Authorization under Section 204(a) of the Federal Power Act to Issue Short-Term Debt Securities.

Filed Date: 10/9/15.

Accession Number: 20151009-5290.

Comments Due: 5 p.m. ET 10/30/15.

Docket Numbers: ES15-46-000.

Applicants: Monongahela Power Company.

Description: Amendment to July 31, 2015 Application of Monongahela Power Company for Authorization under Section 204(a) of the Federal Power Act to Issue Short-Term Debt Securities.

Filed Date: 10/9/15.

Accession Number: 20151009-5288.

Comments Due: 5 p.m. ET 10/30/15.

Docket Numbers: ES15-47-000.

Applicants: The Potomac Edison Company.

Description: Amendment to July 31, 2015 Application of The Potomac Edison Power Company for Authorization under Section 204(a) of the Federal Power Act to Issue Short-Term Debt Securities.

Filed Date: 10/9/15.

Accession Number: 20151009-5287.

Comments Due: 5 p.m. ET 10/30/15.

Docket Numbers: ES15-48-000.

Applicants: Trans-Allegheny Interstate Line Company.

Description: Amendment to July 31, 2015 Application of Trans-Allegheny Interstate Line Company for Authorization under Section 204(a) of the Federal Power Act to Issue Short-Term Debt Securities.

Filed Date: 10/9/15.

Accession Number: 20151009-5284.

Comments Due: 5 p.m. ET 10/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2015.
Nathaniel J. Davis, Sr.,
Deputy Secretary.

[FR Doc. 2015-26704 Filed 10-20-15; 8:45 am]

BILLING CODE 6717-01-P